FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 28, 2020.

A. Federal Reserve Bank of Chicago (Colette A. Fried, Assistant Vice President) 230 South LaSalle Street, Chicago, Illinois 60690-1414:

1. The Richard J. Katz Trust No. 101, Richard J. Katz, as trustee, the Kathleen S. Katz Trust No. 102, Kathleen S. Katz, as trustee, Stephanie K. Korth, and Adam Katz, all of Sycamore, Illinois; The Richard J. Katz Irrevocable Trust, Peter J. Wilder, as trustee, both of Milwaukee, Wisconsin; Brian J. Katz, Tampa, Florida; and minor grandchildren of Richard J. and Kathleen S. Katz; to acquire and to retain voting shares of Resource Bancshares, Inc., and thereby indirectly retain voting shares of Resource Bank, National Association, both of DeKalb, Illinois.

B. Federal Reserve Bank of Cleveland (Mary S. Johnson, Vice President) 1455 East Sixth Street, Cleveland, Ohio 44101-2566. Comments can also be sent electronically to Comments.applications@clev.frb.org:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of KeyCorp, and thereby indirectly acquire additional voting shares of KeyBank, NA, both of Cleveland, Ohio.

2. The Vanguard Group, Inc., Malvern, Pennsylvania; on behalf of itself, its subsidiaries and affiliates, including investment companies registered under the Investment Company Act of 1940, other pooled investment vehicles, and institutional accounts that are sponsored, managed, or advised by Vanguard; to acquire additional voting shares of Fifth Third Bancorp, and thereby indirectly acquire additional voting shares of Fifth Third Bank, NA, both of Cincinnati, Ohio.

C. Federal Reserve Bank of Kansas City (Dennis Denney, Assistant Vice President) 1 Memorial Drive, Kansas City, Missouri 64198-0001:

1. The Anne Saunders Special Purpose Revocable Trust dated September 14, 2020, Anne Saunders, trustee, Marissa Beard, Rachel Carlson, and Emma Saunders, all of Douglas, Wyoming; to acquire voting shares of Converse County Capital Corporation, and thereby indirectly acquire voting shares of The Converse County Bank, both of Douglas, Wyoming; and, as a group acting in concert, to join the Saunders Family Group, which controls voting shares of Converse County Capital Corporation. In addition, Brittanie Saunders, Douglas, Wyoming, and Rebecca Schufman, Richfield, Minnesota, to retain voting shares of Converse County Capital Corporation, and to join the Saunders Family Group.

D. Federal Reserve Bank of San Francisco (Sebastian Astrada, Director, Applications) 101 Market Street, San Francisco, California 94105-1579:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of The Charles Schwab Corporation, San Francisco, California, and thereby indirectly acquire additional voting shares of Charles Schwab Bank, SSB, and Charles Schwab Premier Bank, SSB, both of Westlake, Texas, and Charles Schwab Trust Company, Henderson, Nevada.

E. Federal Reserve Bank of St. Louis (David L. Hubbard, Senior Manager) P.O. Box 442, St. Louis, Missouri 63166-2034. Comments can also be sent electronically to Comments.applications@stls.frb.org:

1. Catherine Hastings Owen and Harry Lee Hastings III, individually and as part of a family control group that also includes Arkansas Bolt Company; Harry L. Hastings, Jr; Stanley T. Hastings Jr; the Harry L. Hastings Jr Family Trust and Rosalyn J. Hastings Family Trust, Harry L. Hastings III, Catherine Hastings Owen, and Stanley T. Hastings Jr as co-trustees of both trusts; the Catherine H. Owen Descendants Gift Trusts for Harper J. Holliday, Sara O. Holliday, Steven C. Owen Jr., and an unnamed minor grandchild, Catherine Hastings Owen, trustee of those trusts; the Harry Lee Hastings III Descendants Gift Trusts for Andrew H. Hastings, Anne M. Hastings, Charles H. Hastings, Ellen B. Hastings, Harry L. Hastings IV, Harry L. Hastings V, Hollis R. Hastings, Huette M. Hastings, Mary H. Hastings, and Winston G. Hastings, Harry L. Hastings III, trustee of those trusts; the Stanley T. Hastings Sr. Descendants Gift Trusts for Alissa C. Hastings, Margo M. Hastings, Patrick T. Hastings, Stanley T. Hastings Jr, Tyler M. Hastings, and Andrew H. Hastings, Stanley T. Hastings Sr., trustee of those trusts; Harry L. Hastings IV; Winston G. Hastings; and Oliver M. Hastings, all of Little Rock, Arkansas; to acquire voting shares of State Holding Company, and thereby indirectly acquire voting shares of Eagle Bank and Trust Company, both of Little Rock, Arkansas.

Board of Governors of the Federal Reserve System, October 7, 2020.
Yao-Chin Chao,
Assistant Secretary of the Board.

[FR Doc. 2020-22585 Filed 10-9-20; 8:45 am]

BILLING CODE 6210-01-P